DEPARTMENT OF AGRICULTURE

Forest Service

36 CFR Parts 223 and 261

RIN 0596-AB81

Sale and Disposal of National Forest System Timber; Special Forest Products and Forest Botanical Products

AGENCY: Forest Service, USDA.

ACTION: Final rule; notice of delay of effective date and comment period.

SUMMARY: In accordance with the memorandum of January 20, 2009, from the Assistant to the President and Chief of Staff, entitled “Regulatory Review,” published in the Federal Register on January 26, 2009, the Department is delaying the effective date and opening for public comment, the rule published on December 29, 2008. This rule regulates the sustainable free use, commercial harvest, and sale of special forest products and forest botanical products from National Forest System lands. The December rule was originally set to take effect January 28, 2009.

DATES: Effective January 28, 2009, the effective date of the rule amending 36 CFR parts 223 and 261 published at 73 FR 79367, December 29, 2008, is delayed until March 30, 2009. Comments must be received by March 2, 2009.

ADDRESSES: The public may send comments to USDA Forest Service, FM, Director, 201 14th Street, SW., Mailstop 1103, Washington, DC 20024, or by e-mail to wospecialproducts@fs.fed.us.

FOR FURTHER INFORMATION CONTACT: Richard Fitzgerald, Forest Service, Forest Management Staff, (202) 205-1753. Individuals who use telecommunication devices for the deaf (TDD) may call the Federal Information Relay Service (FIRS) at 1-800-877-8339 between 8 a.m. and 8 p.m., Eastern Standard Time, Monday through Friday.

SUPPLEMENTARY INFORMATION: In accordance with the memorandum of January 20, 2009, from the Assistant to the President and Chief of Staff, entitled “Regulatory Review,” published in the Federal Register on January 26, 2009, 74 FR 4435, the Department is delaying the effective date and opening for public comment, the rule entitled “Sale and Disposal of National Forest System Timber; Special Forest Products and Forest Botanical Products”, that was published in the Federal Register on December 29, 2008, 73 FR 79367.

The Department is seeking comment from the public on any issues or concerns on the policy raised by the December rule. The December rule is needed to promote sustainability in light of the increased public demands for both timber and non-timber special forest products and forest botanical products over the past 10 years. In many cases, these demands are challenging sustainability, particularly in the most heavily used parts of the National Forest System. The December rule will help ensure the continued sustainability of special forest products and forest botanical products.

Dated: January 26, 2009.
Hank Kashdan,
Acting Deputy Under Secretary, FS, NRE.

[FR Doc. E9-1960 Filed 1-28-09; 8:45 am]

BILLING CODE 3410-11-P